DEPARTMENT OF ENERGY

Bonneville Power Administration

Coyote Business Park Project

AGENCY: Bonneville Power Administration (BPA), Department of Energy (DOE).

ACTION: Notice of Record of Decision (ROD).

SUMMARY: This notice announces the availability of the ROD to implement BPA's portion of the Proposed Action identified in the United States Department of the Interior, Bureau of Indian Affairs' (BIA) Coyote Business Park Final Environmental Impact Statement (EIS) (DOE/EIS-0371, September 2006). BPA will remove and replace some existing wood transmission line structures with taller steel poles on BPA's portion of its Roundup-LaGrande 230-kilovolt (kV) transmission line that crosses the proposed Coyote Business Park on the Umatilla Indian Reservation in Oregon.

ADDRESSES: Copies of the ROD and EIS may be obtained by calling BPA's toll-free document request line, 1-800-622-4520. The ROD and EIS Summary are also available on our Web site, http://www.efw.bpa.gov.

FOR FURTHER INFORMATION CONTACT: Gene Lynard, Bonneville Power Administration—KEC-4, P.O. Box 3621, Portland, Oregon 97208-3621; toll-free telephone number 1-800-282-3713; fax number 503-230-5699; or e-mail gplynard@bpa.gov.

SUPPLEMENTARY INFORMATION: BPA owns and operates the 230-kV Roundup-LaGrande transmission line that crosses the proposed Coyote Business Park site. The portion of the transmission line that crosses the business park site is supported by 12 wooden “H-frame” structures, each about 60 feet tall. The Confederated Tribes of the Umatilla Indian Reservation (CTUIR) has requested that BPA remove these structures and replace them with single steel poles about 110 feet tall. Taller steel poles will increase the clearance between the ground and the conductors and reduce the footprint of the line, thus expanding CTUIR's options for future parking and transportation needs. BPA has decided to remove and replace these structures.

Issued in Portland, Oregon, on March 5, 2007.
Stephen J. Wright,
Administrator and Chief Executive Officer.

[FR Doc. E7-4913 Filed 3-16-07; 8:45 am]

BILLING CODE 6450-01-P